ENVIRONMENTAL PROTECTION AGENCY

[FRL-9942-97-OA]

Notification of a Public Meeting of the Chartered Science Advisory Board

AGENCY: Environmental Protection Agency (EPA).

ACTION: Notice.

SUMMARY: The Environmental Protection Agency (EPA) Science Advisory Board (SAB) Staff Office announces a public meeting of the chartered SAB to: (1) Conduct a quality review of a draft SAB report on an accounting framework for biogenic carbon dioxide emissions; (2) discuss information provided by the EPA on planned actions in the Fall 2015 semi-annual regulatory agenda and their supporting science; and (3) receive briefings from the EPA Office of Research and Development and the Office of the Science Advisor.

DATES: The public meeting will be held on Thursday, March 31, 2016, from 1:30 p.m. to 5:00 p.m. and Friday April 1, 2016, from 9:00 a.m. to 1:00 p.m.

ADDRESSES: The meeting will be held at the Westin Crystal City, 1800 Jefferson Davis Highway, Arlington, VA 22202.

FOR FURTHER INFORMATION CONTACT: Any member of the public who wants further information concerning the meeting may contact Mr. Thomas Carpenter, Designated Federal Officer (DFO), EPA Science Advisory Board (1400R), U.S. Environmental Protection Agency, 1200 Pennsylvania Avenue NW., Washington, DC 20460; via telephone/voice mail (202) 564-4885, or email at carpenter.thomas@epa.gov. General information concerning the SAB can be found on the EPA Web site at http://www.epa.gov/sab.

SUPPLEMENTARY INFORMATION: Background: The SAB was established pursuant to the Environmental Research, Development, and Demonstration Authorization Act (ERDDAA), codified at 42 U.S.C. 4365, to provide independent scientific and technical advice to the Administrator on the scientific and technical basis for Agency positions and regulations. The SAB is a Federal Advisory Committee chartered under the Federal Advisory Committee Act (FACA), 5 U.S.C., App. 2. The SAB will comply with the provisions of FACA and all appropriate SAB Staff Office procedural policies. Pursuant to FACA and EPA policy, notice is hereby given that the SAB will hold a public meeting to discuss and deliberate on the topics below.

(1) Quality Review of a Draft SAB Review Report on the Framework for Assessing Biogenic CO2 Emissions From Stationary Sources

In 2012, the SAB completed a review of the first draft accounting framework addressing scientific and technical issues associated with biogenic carbon dioxide (CO2) emissions, Accounting Framework for Biogenic CO2 Emissions from Stationary Sources (September 2011). The EPA subsequently revised the 2011 framework and requested the SAB to conduct a review of the Framework for Assessing Biogenic CO2 Emissions from Stationary Sources (November 2014). The purpose of the 2014 framework is to develop a method for calculating the adjustment, or Biogenic Assessment Factor (BAF), for carbon emissions associated with the combustion of biogenic feedstocks taking into account the biological carbon cycle effects associated with their growth, harvest and processing. The SAB convened the Biogenic Carbon Emissions Panel to review the framework.

The chartered SAB will conduct a quality review of the panel's draft report before it is transmitted to the EPA Administrator. The SAB quality review process ensures that all draft reports developed by SAB panels, committees or workgroups are reviewed and approved by the Chartered SAB before being finalized and transmitted to the EPA Administrator. These reviews are conducted in a public meeting as required by FACA. Background on the current advisory activity, Biogenic Carbon Dioxide Emissions from Stationary Sources—Assessment Framework can be found on the SAB Web site at http://yosemite.epa.gov/sab/sabproduct.nsf/fedrgstr_activites/Biogenic%20CO2%20Framework?OpenDocument.

(2) Discussion of Information in the Agency's Semiannual Regulatory Agenda

As part of the EPA's effort to routinely inform the SAB about proposed and planned agency actions that have a scientific or technical basis, the agency provided notice to the SAB that the Office of Management and Budget published the “Unified (Regulatory) Agenda” on the Web on November 20, 2015 available at http://www.reginfo.gov/public/do/eAgendaMain.

The SAB convened a Work Group to review information provided in the agency's Fall 2015 regulatory agenda regarding EPA planned actions and their supporting science. The SAB will discuss recommendations and information developed by the Work Group regarding the adequacy of the science supporting the planned actions. Information about this advisory activity can be found on the Web at http://yosemite.epa.gov/sab/sabproduct.nsf/fedrgstr_activites/SAB%20Fall%202015%20Reg%20Agenda?OpenDocument.

Availability of Meeting Materials: A meeting agenda and other materials for the meeting will be placed on the SAB Web site at http://epa.gov/sab.

Procedures for Providing Public Input: Public comment for consideration by EPA's federal advisory committees and panels has a different purpose from public comment provided to EPA program offices. Therefore, the process for submitting comments to a federal advisory committee is different from the process used to submit comments to an EPA program office.

Federal advisory committees and panels, including scientific advisory committees, provide independent advice to the EPA. Members of the public can submit relevant comments pertaining to the EPA's charge, meeting materials, or the group providing advice. Input from the public to the SAB will have the most impact if it provides specific scientific or technical information or analysis for the SAB to consider or if it relates to the clarity or accuracy of the technical information. Members of the public wishing to provide comment should contact the DFO directly.

Oral Statements: In general, individuals or groups requesting an oral presentation at a public meeting will be limited to five minutes. Persons interested in providing oral statements at the March 31-April 1, 2016, meeting should contact Mr. Thomas Carpenter, DFO, in writing (preferably via email) at the contact information noted above by March 23, 2016 to be placed on the list of registered speakers. Written Statements: Written statements for the March 31-April 1, 2016, meeting should be received in the SAB Staff Office by March 23, 2016, so that the information can be made available to the SAB for its consideration prior to the meeting. Written statements should be supplied to the DFO at the contact information above via email (preferred) or in hard copy with original signature. Submitters are requested to provide a signed and unsigned version of each document because the SAB Staff Office does not publish documents with signatures on its Web sites. Members of the public should be aware that their personal contact information, if included in any written comments, may be posted to the SAB Web site. Copyrighted material will not be posted without explicit permission of the copyright holder.

Accessibility: For information on access or services for individuals with disabilities, please contact Mr. Carpenter at the phone number or email address noted above, preferably at least ten days prior to the meeting, to give the EPA as much time as possible to process your request.

Dated: February 22, 2016.
Christopher Zarba,
Director, EPA Science Advisory Board Staff Office.

[FR Doc. 2016-04451 Filed 2-29-16; 8:45 am]

BILLING CODE 6560-50-P